POSTAL SERVICE

Product Change—Priority Mail, and USPS Ground Advantage Negotiated Service Agreements; Priority Mail Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: July 2, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
6/20/2025 | PM-GA 787 | MC2025-1534 | K2025-1528
6/23/2025 | PM 894 | MC2025-1535 | K2025-1529
6/23/2025 | PM-GA 788 | MC2025-1536 | K2025-1530
6/23/2025 | PM-GA 789 | MC2025-1538 | K2025-1532
6/24/2025 | PM 895 | MC2025-1539 | K2025-1533
6/24/2025 | PM-GA 790 | MC2025-1540 | K2025-1534
6/25/2025 | PM 896 | MC2025-1541 | K2025-1535
6/25/2025 | PM 897 | MC2025-1542 | K2025-1536
6/26/2025 | PM-GA 791 | MC2025-1543 | K2025-1537
6/26/2025 | PM-GA 792 | MC2025-1544 | K2025-1538
6/26/2025 | PM-GA 793 | MC2025-1545 | K2025-1539
6/26/2025 | PM 898 | MC2025-1547 | K2025-1541
6/27/2025 | PM 899 | MC2025-1548 | K2025-1542

Documents are available at www.prc.gov.

Sean C. Robinson,
Attorney, Corporate and Postal Business Law.

[FR Doc. 2025-12310 Filed 7-1-25; 8:45 am]

BILLING CODE 7710-12-P